DEPARTMENT OF AGRICULTURE

Forest Service

Information Collection; Customer Service Comment Card

AGENCY: Forest Service, USDA.

ACTION: Notice; request for comment.

SUMMARY: In accordance with the Paperwork Reduction Act of 1995, the Forest Service is seeking comments from all interested individuals and organizations on the extension of information collection for the “Customer Service Comment Card,” a tool used to monitor customer satisfaction.

DATES: Comments must be received in writing on or before June 10, 2002 to be assured of consideration. Comments received after that date will be considered to the extent practicable.

ADDRESSES: Comments concerning this notice should be addressed to Forest Service, USDA, ATTN: Director, Office of Communications, Mail Stop 1111, 1400 Independence Avenue, SW., Washington, DC 20250-1111.

Comments also may be submitted via facsimile to (202) 205-0885 or by e-mail to: bhunter01.fs.fed.us.

The public may inspect comments received at the Office of Communication, Customer Service Group, Yates Building, 2 CEN, 201 Fourteenth Street, SW., Washington DC during normal business hours. Visitors are encouraged to call ahead to (202) 205-0979 to facilitate entry to the building.

FOR FURTHER INFORMATION CONTACT: Barbara Hunter, Office of Communication, (202) 205-0979 or bhunter01@fs.fed.us or Mary Ann Ball, Forest Service Information Collection Coordinator, at (703) 605-4572, or send an e-mail to maryball@fs.fed.us. Individuals who use telecommunication devices for the deaf (TDD) may call the Federal Information Relay Service (FIRS) at 1-800-877-8339 between 8 a.m. and 8 p.m., Eastern Standard Time, Monday through Friday to reach Ms. Hunter or Ms. Ball.

SUPPLEMENTARY INFORMATION:

Description of Information Collection

Title: Customer Service Comment Card.

OMB Number: 0596-0146.

Expiration Date of Approval: April 28, 2002.

Type of Request: Extension with no revision.

Abstract: This information collection is necessary to monitor customer satisfaction with Forest Service customer services, information, procedures, and facilities and to provide a means to address customer complaints, suggestions, and compliments. This information collection complies with issuance of Executive Order 12862 on September 11, 1993, which directs Federal agencies to change the way they do business, to reform their management practices, to provide service to the public that matches or exceeds the best service available in the private sector, and to establish and implement customer service standards.

The Customer Service Card includes the following statements that are to be rated on a scale from 1 to 4, with 1 being “Strongly Agree” and 4 being “Strongly Disagree.” In addition, 5 indicates that the statement is “Not Applicable.”

1. Service was prompt and courteous.

2. Information was what I needed.

2. Procedures were clear and simple.

3. Facilities were satisfactory and accessible.

4. Technology transfer/technical assistance was effective.

Customers can voluntarily mail the cards back to the Chief of the Forest Service in Washington, DC, or complete an online Comment Card form through the Internet. The data are gathered, evaluated, and included in ad hoc reports. Also, the printed Customer Service Comment Card and e-mail messages are forwarded to the appropriate Forest Service personnel in the respective field units where the customers were served so that any complaints and suggestions may be used to improve services and facilities. This gives Forest Service personnel an opportunity to respond to customers by phone, mail, or e-mail when considered necessary and appropriate if the customers indicate that they desire this by telling us how to reach them. Receiving positive comments reinforces the incentive of employees to make the Forest Service a customer-driven agency.

Estimate of Annual Burden: 4 minutes.

Type of Respondents: Respondents include anyone who visits or contacts one of the Forest Service offices, work sites, or visitor centers, either in person, by telephone or on the Internet. This includes individuals and groups of varying ages and abilities, U.S. citizens and citizens from other countries, who visit or plan to visit National Forest System lands, for recreation or education purposes; special interest groups; local residents; and individuals conducting business with the Forest Service including, but not limited to, grazing permittees, minerals, oil and gas permittees, land lessees, timber customers, other forest products customers, research scientists, special-use customers, educators, librarians, historians, writers, media contacts, moviemakers, law enforcement officers, fire fighters, representatives of other Federal, State, county, or local Government agencies, and foreign governments.

Estimated Annual Number of Respondents: 15,000.

Estimated Annual Number of Responses per Respondent: 1.

Estimated Total Annual Burden on Respondents: 1,000 hours per year.

Comment is invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Dated: March 7, 2002
Robert Lewis, Jr.,
Acting Chief, Forest Service.

[FR Doc. 02-8530 Filed 4-8-02; 8:45 am]

BILLING CODE 3410-11-P